DEPARTMENT OF EDUCATION

[CFDA No.: 84.341]

Community Technology Centers Program

AGENCY: Office of Vocational and Adult Education, Department of Education.

ACTION: Notice of final priority, program requirements, and selection criteria for Fiscal Year (FY) 2003 for novice applicants.

SUMMARY: The Assistant Secretary for Vocational and Adult Education establishes a final priority, selection criteria, and program requirements under the Community Technology Centers (CTC) program for novice applicants. The Assistant Secretary will use this priority, selection criteria, and program requirements for the FY 2003 novice applicant competition.

EFFECTIVE DATE: This priority, selection criteria, and program requirements are effective June 20, 2003.

FOR FURTHER INFORMATION CONTACT: If you have questions pertaining to the application, need further assistance, or need to speak with someone in the CTC program, you may contact Gisela Harkin, Office of Vocational and Adult Education, U.S. Department of Education, 400 Maryland Avenue, SW., Mary E. Switzer Building, Room 4324, Washington, DC 20202 7100,Telephone: (202) 205-4238 or via e-mail: commtech.center@ed.gov. Please type “CTC Notice Correspondence” as the subject line of your electronic message.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

Note: This notice does not solicit applications. A notice inviting applications under this competition is published elsewhere in this issue of the Federal Register. The notice inviting applications specifies the deadline date by which applications for an award must be received or hand-delivered to the Department if a waiver to the electronic submission requirement is granted.

SUPPLEMENTARY INFORMATION

General

As authorized by Title V, Part D, Subpart 11, Section 5511-13 of the Elementary and Secondary Education Act of 1965 (ESEA), as amended by the No Child Left Behind Act (NCLB) of 2001, the purpose of the CTC Program is to assist eligible applicants to create or expand community technology centers that will provide disadvantaged residents of economically distressed urban and rural communities with access to information technology and related training. Eligible applicants shall be an institution of higher education, a State Education Agency, a Local Educational Agency, an entity (such as a foundation, museum, library, for-profit business, public or private nonprofit, or community-based organization, including faith-based organizations), or consortia thereof, that also meet the definition of a “novice applicant,” as that term is defined in 34 CFR 75.225(a)(1) (see the following section of this notice on Novice Applicants for more information on this requirement). In addition, eligible applicants shall have the capacity to significantly expand access to computers and related services for disadvantaged residents of economically distressed urban and rural communities who would otherwise be denied such access.

The CTC program novice applicant competition gives absolute priority to those applicants who will focus on improving the academic achievement of low-achieving secondary school students while continuing to provide a community technology center for all members of their community. Thus, grant recipients must meet this priority as they use grant funds to create or expand community technology centers that expand access to information technology and related training for disadvantaged residents of distressed urban or rural communities and to evaluate the effectiveness of their projects. Funds may be used to provide services and activities that use technology to improve academic achievement, such as academic enrichment activities for children and youth, career development, adult education, and English language instruction for individuals with limited English proficiency. Other authorized activities include, among other things, support for personnel, equipment, networking capabilities, and other infrastructure costs. No funds may be used for construction.

Improving the academic achievement of our nation's secondary school students has become an urgent need. Current National Assessment of Educational Progress (NAEP) data indicate that, despite some slow and steady progress in secondary student achievement over the past few decades, many of our nation's secondary students are still not attaining the academic skills and knowledge required for graduation, postsecondary education, or careers. This is particularly true among students who are entering secondary school, with two in ten scoring below basic levels in reading, over three in ten scoring below basic levels in math, and four in ten scoring below basic levels in science. Moreover, as students move through secondary school, their academic progress wanes. Except in the area of science, students actually make greater academic gains between grades four and eight than between grades eight and 12.

To support the goal of the NCLB that all students attain proficiency in challenging State academic achievement standards, the Assistant Secretary establishes a priority, selection criteria, and program requirements for the CTC program that will focus program resources on providing effective supplemental instruction to low-achieving students who are entering or enrolled in grades nine through 12 at high-poverty, low-performing secondary schools.

Novice Applicants

The Department encourages the participation of novice applicants in the Community Technology Centers program. Therefore, the Secretary has determined, under 34 CFR 75.225(c)(1), to give special consideration to novice applicants. As a result, up to 25 percent of available program funds will be reserved for grants to novice entities submitting high-quality applications.

This notice establishes a priority, selection criteria, and program requirements for the novice applicant competition of the FY 2003 CTC program. Notices inviting applications and establishing priorities, selection criteria, and program requirements for the general CTC competition—for which both novice and non-novice applicants may apply—previously have been published in the Federal Register on June 3, 2003 (FR 33318-33323).

An applicant is considered a “novice applicant” if it meets the following definition taken from 34 CFR 75.225(a)(1):

The applicant must—

(i) Have never received a grant or a subgrant under the Community Technology Centers program;

(ii) Have never been a member of a group application, submitted in accordance with 34 CFR 75.127-75.129, that received a grant under the Community Technology Centers program; and

(iii) Have not had an active discretionary grant from the Federal government in the five (5) years before the deadline date for applications in this competition.

(34 CFR 75.225(a)(2) and (b) further interpret this definition in cases of group applications in this competition and specify that a grant is “active” until the end of the grant's project or funding period, including any extensions of those periods that extend the grantee's authority to obligate funds).

Application Procedures

The Government Paperwork Elimination Act (GPEA) of 1998 (Public Law 105-277) and the Federal Financial Assistance Management Improvement Act of 1999 (Public Law 106-107) encourage us to undertake initiatives to improve our grant processes. Enhancing the ability of individuals and entities to conduct business with us electronically is a major part of our response to these Acts. Therefore, the Department is taking steps to adopt the Internet as our chief means of conducting transactions in order to improve services to our customers and to simplify and expedite our processes.

The Department is requiring that applications for the FY 2003 Community Technology Centers program competition be submitted electronically using e-APPLICATION through the U.S. Department of Education's e-GRANTS system. The e-GRANTS system is accessible through its portal page at http://e-grants.ed.gov.

Applicants who are unable to submit an application through the e-GRANTS systems may apply for a waiver to the electronic submission requirement. To apply for a waiver, applicants must explain the reason(s) that prevent(s) them from using the Internet to submit their applications. The reason(s) must be outlined in a letter addressed to: Gisela Harkin, U.S. Department of Education, Office of Vocational and Adult Education, 330 “C” Street, SW., Washington, DC, 20202-7100. Please mark your envelope “CTC competition waiver request.” The letter requesting the waiver is to be submitted no later than two (2) weeks before the deadline for transmittal of applications; last minute requests will not be considered.

Any application that receives a waiver to the electronic submission requirement will be given the same consideration in the review process as an electronic application.

Pilot Project for Electronic Submission of Applications

In FY 2003, the U.S. Department of Education is continuing to expand its pilot project of electronic submission of applications to include additional formula programs and additional discretionary grant competitions. The Community Technology Centers (CTC) program (CFDA 84.341) is one of the programs included in the pilot project. If you are an applicant under the CTC Program, you must submit your application to us in electronic format or receive a waiver.

The pilot project involves the use of the Electronic Grant Application System (e-APPLICATION, formerly e-GAPS) portion of the Grant Administration and Payment System (GAPS). We shall continue to evaluate its success and solicit suggestions for improvement.

Please note the following:

—Do not wait until the deadline date for the transmittal of applications to submit your application electronically. If you wait until the deadline date to submit your application electronically and you are unable to access the e-APPLICATION system, you must contact the Help Desk by 4:30 P.M. EST on the deadline date.

—Keep in mind that e-APPLICATIONS is not operational 24 hours a day, 7 days a week. Click on “Hours of Web Site Operation” for specific hours of access during the week.

—You will have access to the e-APPLICATION Help Desk for technical support: 1 (888) 336-8930 (TTY: 1 (866) 697-2696, local (202) 401-8363). The Help Desk hours of operation are limited to 8 A.M.-6 P.M. EST Monday through Friday.

You must submit all documents electronically, including the Application for Federal Education Assistance (ED424), Budget Information—Non-Construction Programs (ED524), and assurances, certifications, and appendices, as appropriate.

—After you electronically submit your application, you will receive an acknowledgement, which will include a PR/Award number (an identifying number unique to your application).

—Within three (3) working days after submitting your electronic application, fax a signed copy of the Application for Federal Education Assistance (ED424) to the Application Control Center after following these steps:

(1) Print the ED424 from the e-Application system.

(2) The institution's Authorizing Representative must sign this form.

(3) Place the PR/Award number in the upper right hand corner of the hard copy signature page of the ED424.

(4) Fax the signed ED424 to the Application Control Center at (202) 260-1349.

—The Department may request that you give us original signatures on all other forms at a later date. Closing Date Extension in Case of System Unavailability

If you are prevented from submitting your application on the closing date because the e-APPLICATION system is unavailable, we will grant you an extension of one (1) business day in order to transmit your application electronically, by mail, or by hand delivery.

For us to grant this extension:

(1) You must be a registered user of e-APPLICATION and have initiated an e-APPLICATION for this competition; and

(2) (A) The e-APPLICATION system must be unavailable for 60 minutes or more between the hours of 8:30 A.M. and 3:30 P.M. EST, on the deadline date; or

(B) The e-APPLICATION system must be unavailable for any period of time during the last hours of operation (that is, for any period of time between 3:30 and 4:30 P.M. EST) on the deadline date. The Department must acknowledge and confirm these periods of unavailability before granting you an extension. To request this extension, you must contact the e-Grants Help Desk at 1 (888) 336-8930.

You may access the electronic grant application for CFDA No. 84.341 at http://e-grants.ed.gov.

Page limit: The application narrative (Part VI of the application) is where you, the applicant, address the selection criteria that reviewers use to evaluate your application. You must limit Part VI to the equivalent of no more than 25 pages, using the following standards:

• A “page” is 8.5″ x 11″ on one side only, with 1″ margins on the top, bottom, and both sides.

• Double space (no more than three lines per vertical inch) all text in the application narrative, including titles, headings, footnotes, quotations, references, and captions, as well as all text in charts, tables, figures, and graphs.

• Use a font that is either 12-point or larger or no smaller than 10 pitch (characters per inch).

In addition, you must limit Part VII (budget narrative) to four (4) pages and Part X (Appendices) to 15 pages, using the aforementioned standards. We will reject your application if:

• You apply these standards and exceed the page limit; or

• You apply other standards and exceed the equivalent of the page limit.

Waiver of Rulemaking

It is the Secretary's practice, in accordance with the Administrative Procedure Act (5 U.S.C. 553), to offer interested parties the opportunity to comment on proposed rules that are not taken directly from statute. Ordinarily, this practice would have applied to the priority and requirements of this notice. However, section 437(d)(2) of the General Education Provisions Act (GEPA) exempts from this requirement rules that would cause extreme hardship to the intended beneficiaries of the program that would be affected by those rules. In accordance with section 437(d)(2) of GEPA, the Secretary has decided to forgo public comment with respect to the rules in this grant competition in order to ensure timely and high-quality awards. The rules established in this notice apply only to the FY 2003 grant competition.

Discussion of Priority

When inviting applications, we designate an absolute priority. Under an absolute priority, we consider only applications that meet the priority (34 CFR 75.105(c)(3)).

Absolute Priority

Each application must be submitted by an eligible novice applicant (see Supplementary Information for definition of “novice applicant”). In addition, each proposed project must provide supplemental instruction in reading or language arts and mathematics to low-achieving secondary school (grades 9-12) students in high-poverty, low-performing secondary schools. Further, each applicant must demonstrate how their project's proposed academic approach is aligned with the secondary school curricula of the schools in which the students to be served by the grant are entering or enrolled. Finally, proposed projects must include an evaluation component that demonstrates in measurable ways how their program has improved the academic achievement in reading or language arts and mathematics of students receiving their services.

Scoring of Applications

Applications received under this notice will be screened for eligibility and scored according to the criteria that follow in this notice. Each application under this competition must meet the definition of a novice applicant and satisfy the Absolute Priority in order to be eligible for funding. An application that does not meet the definition of a novice applicant and does not satisfy the Absolute Priority will not be considered for funding.

Selection Criteria

The following selection criteria will be used to evaluate applications submitted for grants. Please note:

(1) The maximum score is 100 points.

(2) The maximum score for each criterion is indicated in parentheses.

(a) Need for the Project (10 points):

In evaluating the need for the proposed project, we consider the extent to which the proposed project will:

(1) Serve students from low-income families;

(2) Serve students entering or enrolled in secondary schools that are among the secondary schools in the State that have the highest numbers or percentages of students who have not achieved proficiency on the State academic assessments required by Title I of ESEA, or who have academic skills in reading or language arts, or mathematics, that are significantly below grade level;

(3) Serve students who have the greatest need for supplementary instruction, as indicated by their scores on State or local standardized assessments in reading or language arts, or mathematics, or some other local measure of performance in reading or language arts, or mathematics; and

(4) Create or expand access to information technology and related training for disadvantaged residents of distressed urban or rural communities.

(b) Quality of the Project Design (35 points):

In evaluating the quality of the proposed project, we consider the extent to which the proposed project will:

(1) Provide instructional services that will be of sufficient size, scope, and intensity to improve the academic performance of participating students;

(2) Incorporate strategies that have proven effective for improving the academic performance of low-achieving students;

(3) Implement strategies in recruiting and retaining students that are likely to prove effective;

(4) Provide instruction that is aligned with the secondary school curricula of the schools in which the students to be served by the grant are entering or enrolled; and

(5) Provide high-quality, sustained, and intensive professional development for personnel who provide instruction to students.

(c) Quality of the Management Plan (15 points):

In evaluating the quality of the management plan, we consider the extent to which the proposed project:

(1) Outlines specific, measurable goals, objectives, and outcomes to be achieved by the proposed project;

(2) Assigns responsibility for the accomplishment of project tasks to specific project personnel, and provides timelines for the accomplishment of project tasks;

(3) Requires appropriate and adequate time commitments of the project director and other key personnel to achieve the objectives of the proposed project; and

(4) Includes key project personnel, including the project director and other staff, with appropriate qualifications and relevant training and experience.

(d) Adequacy of Resources (20 points):

In determining the adequacy of resources for the proposed project, we consider the following factors:

(1) The adequacy of support, including facilities, equipment, supplies, and other resources, from the applicant;

(2) The extent to which a preponderance of project resources will be used for activities designed to improve the academic performance of low-achieving students in reading and/or mathematics;

(3) The extent to which the budget is adequate and costs are reasonable in relation to the objectives and design of the proposed project; and

(4) The potential for continued support of the project after Federal funding ends, including, as appropriate, the demonstrated commitment of appropriate entities to such support.

(e) Quality of the Evaluation (20 points):

In determining the quality of the evaluation, we consider the extent to which the proposed project:

(1) Includes a plan that utilizes evaluation methods that are feasible and appropriate to the goals and outcomes of the project;

(2) Will regularly examine the progress and outcomes of participating students on a range of appropriate performance measures;

(3) Will use an independent, external evaluator with the necessary background and technical expertise to assess the performance of the project; and

(4) Effectively demonstrates that the applicant has adopted a rigorous evaluation design.

Program Requirements

Project Period: 12 months.

Range of Awards: $300,000-$500,000. Applicants who request more than $500,000 will be ineligible for funding.

Estimated Number of Awards: The Secretary anticipates making approximately 20-30 awards under this competition.

Matching Requirement: Pursuant to Section 5512(c) of ESEA, as amended by NCLB, Federal funds may not pay for more than 50 percent of total project costs. In order to apply for and receive a grant award under this competition, each applicant must furnish from nonfederal sources at last 50 percent of its total project costs. Applicants may satisfy this requirement in cash or in kind, fairly evaluated, including services.

Reporting Requirements

In accordance with Education Department General Administrative Regulations (EDGAR) cited elsewhere in this notice, grantees are required to submit to the Secretary a final performance report that:

(1) Summarizes project progress with respect to the specific, measurable goals, objectives, and outcomes proposed in the management plan;

(2) Summarizes project impact with respect to the achievement of participants;

(3) Identifies barriers to progress as well as solutions; and

(4) Provides information about the project's success in identifying funding to sustain its operations after the cessation of the grant.

Intergovernmental Review

This program is subject to Executive Order 12372 and the regulations in 34 CFR Part 79. One of the objectives of the Executive Order is to foster an intergovernmental partnership and a strengthened Federalism. The Executive order relies on processes developed by State and local governments for coordination and review of proposed Federal financial assistance.

Applicable Program Regulations: 34 CFR parts 75, 77, 79, 80, 81, 82, 85, 86, 97, 98 and 99.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(CFDA No. 84.341) Community Technology Centers Program.

Program Authority: 20 U.S.C. 7263-7263b.

Dated: June 17, 2003.
Carol D'Amico,
Assistant Secretary for Vocational and Adult Education.

[FR Doc. 03-15707 Filed 6-19-03; 8:45 am]

BILLING CODE 4000-01-P